DEPARTMENT OF COMMERCE

National Oceanic and Atmospheric Administration

[I.D. 053105B]

Pacific Fishery Management Council; Public Meetings/Workshop

AGENCY: National Marine Fisheries Service (NMFS), National Oceanic and Atmospheric Administration (NOAA), Commerce.

ACTION: Notice of three public meetings.

SUMMARY: Three Groundfish Stock Assessment Review (STAR) Panels will hold work sessions which are open to the public. The first STAR Panel will review new assessments for sablefish, Dover sole, shortspine thornyhead, and longspine thornyhead. The second STAR Panel will review new assessments for widow rockfish, blackgill rockfish, and kelp greenling; and an updated assessment for bocaccio. The third STAR Panel will review new assessments for canary rockfish, lingcod, and yelloweye rockfish; and an updated assessment for yellowtail rockfish.

DATES: The sablefish, Dover sole, shortspine thornyhead, and longspine thornyhead STAR Panel will meet beginning at 8 a.m., Monday, June 20, 2005. The meeting will continue through Friday, June 24, 2005 beginning at 8 a.m. every morning. The meetings will end at 5 p.m. each day, or as necessary to complete business.

The widow rockfish, blackgill rockfish, kelp greenling, and bocaccio STAR Panel will meet beginning at 8 a.m., Monday, August 1, 2005. The meeting will continue through Friday, August 5, 2005 beginning at 8 a.m. every morning. The meetings will end at 5 p.m. each day, or as necessary to complete business.

The canary rockfish, lingcod, yelloweye rockfish, and yellowtail rockfish STAR Panel will meet beginning at 8 a.m., Monday, August 15, 2005. The meeting will continue through Friday, August 19, 2005 beginning at 8 a.m. every morning. The meetings will end at 5 p.m. each day, or as necessary to complete business.

ADDRESSES: The sablefish, Dover sole, shortspine thornyhead and longspine thornyhead STAR Panel meeting will be held at the National Marine Fisheries Service (NMFS), Hatfield Marine Science Center, Captain R. Barry Fisher Building, 2032 SE Oregon State University Drive, Newport, Oregon 97365-5296; telephone: 541-867-0501.

The widow rockfish, blackgill rockfish, kelp greenling, and bocaccio STAR Panel meeting will be held at NMFS, Southwest Fisheries Science Center, Meeting Room 188, 110 Shaffer Road, Santa Cruz, California 95060; telephone: 831-420-3900.

The canary rockfish, lingcod, yelloweye rockfish, and yellowtail rockfish STAR Panel meeting will be held at NMFS, Northwest Fisheries Science Center (NWFSC), 2725 Montlake Boulevard East, Seattle, Washington 98112; telephone: 206-860-3480.

Council address: Pacific Fishery Management Council, 7700 NE Ambassador Place, Suite 200, Portland, Oregon 97220-1384; telephone: 503-820-2280.

FOR FURTHER INFORMATION CONTACT: Ms. Stacey Miller, NWFSC; telephone: 206-860-3480; or Mr. John DeVore, Pacific Fishery Management Council; telephone: 503-820-2280.

SUPPLEMENTARY INFORMATION: The purpose of the STAR Panel meetings are to review draft stock assessment documents and any other pertinent information, work with the Stock Assessment Teams to make necessary revisions, and produce STAR Panel reports for use by the Council family and other interested persons. No management actions will be decided by these STAR Panels. The STAR Panels' role will be development of recommendations and reports for consideration by the Council at either its September meeting in Portland, Oregon or its November meeting in San Diego, California.

Although non-emergency issues not contained in the meeting agendas may come before the STAR Panel participants for discussion, those issues may not be the subject of formal STAR Panel action during these meetings. STAR Panel action will be restricted to those issues specifically listed in this notice and any issues arising after publication of this notice that require emergency action under Section 305(c) of the Magnuson-Stevens Fishery Conservation and Management Act, provided the public has been notified of the STAR Panel participants' intent to take final action to address the emergency.

Special Accommodations

These meetings are physically accessible to people with disabilities. Requests for sign language interpretation or other auxiliary aids should be directed to Ms. Carolyn Porter at 503-820-2280 at least five days prior to the meeting date.

Dated: May 31, 2005.
Emily Menashes,
Acting Director, Office of Sustainable Fisheries, National Marine Fisheries Service.

[FR Doc. E5-2852 Filed 6-2-05; 8:45 am]

BILLING CODE 3510-22-S